DEPARTMENT OF THE INTERIOR

Bureau of Land Management

[CA920-1310-FI; CACA 44204]

Notice of Proposed Reinstatement of Terminated Oil and Gas Lease

AGENCY: Bureau of Land Management, Interior.

ACTION: Notice.

SUMMARY: Per Public Law 97-451, the lessee timely filed a petition for reinstatement of oil and gas lease CACA 44204 for lands in Kern County, California. The lessee paid the required rentals accruing from the date of termination.

The Bureau of Land Management (BLM) has not issued any leases affecting the lands. The lessee agrees to new lease terms for rentals and royalties of $10.00 per acre and 16⅔ percent. The lessee has paid the administrative fee for the reinstatement of the lease and the cost for publishing this notice.

The lessee has met the requirements for reinstatement of the lease per sec. 31(d) and (e) of the Mineral Lands Leasing Act of 1920 (30 U.S.C. 188). The BLM is proposing to reinstate lease CACA 44204 effective February 1, 2003, subject to:

• The original terms and conditions of the lease;

• The increased rental rate of $10.00 per acre;

• The increased royalty rate of 16⅔ percent; and

• The cost of publishing this notice.

FOR FURTHER INFORMATION CONTACT: Bonnie J. Edgerly, Land Law Examiner, Branch of Adjudication, Division of Energy and Minerals, BLM California State Office, 2800 Cottage Way, Suite W-1834, Sacramento, California 95825, (916) 978-4370.

Dated: March 1, 2004.
Debra Marsh,
Supervisor, Branch of Adjudication, Division of Energy and Minerals.

[FR Doc. 04-8151 Filed 4-9-04; 8:45 am]

BILLING CODE 4310-40-P